DEPARTMENT OF COMMERCE

National Oceanic and Atmospheric Administration

RIN 0648-XE129

Marine Mammals; File No. 19439

AGENCY: National Marine Fisheries Service (NMFS), National Oceanic and Atmospheric Administration (NOAA), Commerce.

ACTION: Notice; receipt of application.

SUMMARY: Notice is hereby given that Daniel P. Costa, Ph.D., University of California at Santa Cruz, Long Marine Laboratory, 100 Shaffer Road, Santa Cruz, CA 95064, has applied in due form for a permit to conduct research on pinnipeds in Antarctica.

DATES: Written, telefaxed, or email comments must be received on or before September 28, 2015.

ADDRESSES: The application and related documents are available for review by selecting “Records Open for Public Comment” from the “Features” box on the Applications and Permits for Protected Species (APPS) home page, https://apps.nmfs.noaa.gov, and then selecting File No. 19439 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include File No. 19439 in the subject line of the email comment.

Those individuals requesting a public hearing should submit a written request to the Chief, Permits and Conservation Division at the address listed above. The request should set forth the specific reasons why a hearing on this application would be appropriate.

FOR FURTHER INFORMATION CONTACT: Amy Sloan or Brendan Hurley, (301) 427-8401.

SUPPLEMENTARY INFORMATION: The subject permit is requested under the authority of the Marine Mammal Protection Act of 1972, as amended (MMPA; 16 U.S.C. 1361 et seq.), and the regulations governing the taking and importing of marine mammals (50 CFR part 216).

The purpose of this research is to understand the foraging ecology, physiology, habitat use, and diving behavior of Southern Ocean pinnipeds and the factors that affect and constrain their foraging and at-sea behaviors and how these ecological and physiological factors (1) vary in space and time, (2) influence and constrain the behavior of these species, (3) are impacted by environmental change, and (4) compare with other marine mammal species. To accomplish these objectives, the applicant proposes to capture and sample leopard (Hydrurga leptonyx), crabeater (Lobodon carcinophaga), southern elephant (Mirounga leonina), Ross (Ommatophoca rossii), Weddell (Leptonychotes weddellii), and Antarctic fur (Arctocephalus gazella) seals throughout their range for five years. Researchers may capture up to 40 animals per species per year at sites throughout their range to collect tissue samples, morphometrics, and metabolic and physiological measurements, apply identifying marks, and attach instruments; as well as an additional 50 pups of each species for marking, morphometrics, and minimal sample collection. An additional 100 each of crabeater seals, leopard seals, and Ross seals, 500 southern elephant seals, and 1000 each of Weddell seals and Antarctic fur seals may be taken annually via Level B harassment by incidental disturbance during captures, opportunistic sample collection, and resights. Unintentional mortality or serious injury of up to four animals per species annually not to exceed ten animals per species over five years is requested. Blood and tissue samples would be imported from the Southern Ocean and Antarctica to the United States and exported world-wide for analyses.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: August 25, 2015.
Julia Harrison,
Chief, Permits and Conservation Division, Office of Protected Resources, National Marine Fisheries Service.

[FR Doc. 2015-21393 Filed 8-27-15; 8:45 am]

BILLING CODE 3510-22-P